DEPARTMENT OF DEFENSE

Department of the Army

Availability for Non-Exclusive, Exclusive, or Partially Exclusive Licensing of U.S. Patent Application Concerning Live Attenuated Venezuelan Equine Encephalitis

AGENCY: Army Medical Research and Materiel Command, DOD.

ACTION: Notice.

SUMMARY: In accordance with 37 CFR 404.6, announcement is made of the availability for licensing of U.S. Patent Application No. 09/454,721 entitled “Live Attenuated Venezuelan Equine Encephalitis” filed December 7, 1999. Foreign rights are also available (PCT/US99/29041). This patent has been assigned to the United States Government as represented by the Secretary of the Army.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301) 619-5034.

SUPPLEMENTARY INFORMATION: A live attenuated Venezuelan equine encephalitis virus (VEE) is described which comprises a viral gene rearrangement. This rearranged attenuated virus is useful as vaccine for protection against infection with VEE. Methods of preparing the virus and methods of using the virus are described.

Elizabeth Arwine,
Patent Attorney.

[FR Doc. 01-19764 Filed 8-6-01; 8:45 am]

BILLING CODE 3710-08-M